DEPARTMENT OF STATE

Bureau of Nonproliferation; Termination of Missile Proliferation Sanctions Against a Russian Entity

[Public Notice 4902]

AGENCY: Department of State.

ACTION: Notice.

SUMMARY: A determination has been made that sanctions imposed on a Russian entity, effective July 22, 2004 (69 FR 43875), pursuant to the Arms Export Control Act, as amended, and the Export Administration Act of 1979 as amended (as carried out under Executive Order 13222 of August 17, 2001) no longer apply.

EFFECTIVE DATE: November 18, 2004.

FOR FURTHER INFORMATION CONTACT: Vann H. Van Diepen, Office of Chemical, Biological and Missile Nonproliferation, Bureau of Nonproliferation, Department of State (202-647-1142).

SUPPLEMENTARY INFORMATION: A determination was made on November 1, 2004, pursuant to Section 73(b)(1)(A) of the Arms Export Control Act (22 U.S.C. 2797b(b)(1)(A)) and Section 11B(b)(2)(A) of the Export Administration Act of 1979 (50 U.S.C. app. 2410b(b)(2)(A)), as carried out under Executive Order 13222 of August 17, 2001, that the sanctions imposed effective July 22, 2004 (69 FR 43875), on the Russian entity Federal Research and Production Complex Altay (and its subunits and successors) do not apply. A determination was also made to impose sanctions against this entity under separate authority, as announced in a separate Notice in the Federal Register.

Dated: November 12, 2004.
Susan F. Burk,
Acting Assistant Secretary of State for Nonproliferation, Department of State.

[FR Doc. 04-25637 Filed 11-17-04; 8:45 am]

BILLING CODE 4710-27-P